DEPARTMENT OF EDUCATION

[Docket No. ED-2013-ICCD-0133]

Agency Information Collection Activities; Submission to the Office of Management and Budget for Review and Approval; Comment Request; Survey of Principals of Rural Schools Receiving School Improvement Grants and Using the Transformation

AGENCY: Institute of Education Sciences/National Center for Education Statistics (IES), Department of Education (ED).

ACTION: Notice.

SUMMARY: In accordance with the Paperwork Reduction Act of 1995 (44 U.S.C. chapter 3501 et seq.), ED is proposing a new information collection.

DATES: Interested persons are invited to submit comments on or before February 14, 2014.

ADDRESSES: Comments submitted in response to this notice should be submitted electronically through the Federal eRulemaking Portal at http://www.regulations.gov by selecting Docket ID number ED-2013-ICCD-0133 or via postal mail, commercial delivery, or hand delivery. Please note that comments submitted by fax or email and those submitted after the comment period will not be accepted. Written requests for information or comments submitted by postal mail or delivery should be addressed to the Director of the Information Collection Clearance Division, U.S. Department of Education, 400 Maryland Avenue SW., LBJ, Mailstop L-OM-2-2E319, Room 2E107, Washington, DC 20202.

FOR FURTHER INFORMATION CONTACT: For questions related to collection activities or burden, please call Kathy Axt, 540-776-7742 or electronically mail ICDocketMgr@ed.gov. Please do not send comments here. We will ONLY accept comments in this mailbox when the regulations.gov site is not available to the public for any reason.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Survey of Principals of Rural Schools Receiving School Improvement Grants and Using the Transformation.

OMB Control Number: 1850-NEW.

Type of Review: A new information collection.

Respondents/Affected Public: Individuals or households.

Total Estimated Number of Annual Responses: 221.

Total Estimated Number of Annual Burden Hours: 58.

Abstract: This study collects survey data from principals of schools that received federal School Improvement Grants (SIGs) in cohort 1 and implemented the school transformation model. Rural schools and districts often face steep challenges when trying to implement the kinds of staff replacement and on-site professional development practices required in the transformation model. By examining the implementation of the SIG transformation model in challenging rural settings, the study will produce findings that can help policymakers, rural schools, and their partners plan for school improvement. Our study will do this in two ways: (1) By asking principals to specify the extent to which the transformation activities were implemented and the challenges to implementation, and (2) by identifying which activities were supported by technical assistance providers and how sufficient principals found this support.

Dated: January 9, 2014.
Stephanie Valentine,
Acting Director, Information Collection Clearance Division, Privacy, Information and Records Management Services, Office of Management.

[FR Doc. 2014-00572 Filed 1-14-14; 8:45 am]

BILLING CODE 4000-01-P